DEPARTMENT OF HEALTH AND HUMAN SERVICES

Administration for Children and Families

Submission for OMB Review; Comment Request

Title: Voluntary Surveys of Program Partners to Implement Executive Order 12862.

OMB No.: 0980-0266.

Description: Under the provisions of the Federal Paperwork Reduction Act of 1995 (Pub. L. 104-13), the Administration for Children and Families (ACFR) is requesting clearance for instruments to implement Executive Order 12862 within ACF. The purpose of the data collection is to obtain customer satisfaction information from those entities who are funded to be ACF's partners in the delivery of services to the American public. ACF partners are those entities that receive funding to deliver services or assistance from ACF programs. Examples of partners are State and local governments, Territories, service providers, Indian Tribes and Tribal organizations, grantees, researchers or other intermediaries serving target populations identified by and funded directly or indirectly by ACF. The surveys will obtain information about how well ACF is meeting the needs of its partners in operating the programs.

Respondents: State, local, Tribal governments or Not-for-profit organizations.

Annual Burden Estimates
Instrument | Number of respondents | Number of responses per respondent | Average burden hours per response | Total burden hours
State Governments, Territories and District of Columbia | 54 | 10 | 1 | 540
Head Start grantees & Delegates | 200 | 1 | 0.5 | 100
Other Discretionary grant Programs | 200 | 10 | 0.5 | 1,000
Indian Tribes and Tribal Organizations | 25 | 10 | 0.5 | 125

Estimated Total Annual Burden Hours: 1,765.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect of OMB receives it within 30 days of publication. Written comments and recommendations for the proposed information collection should be sent directly to the following:

Office of Management and Budget, Paperwork Reduction Project, Fax: 202-395-6974, Attn: Desk Officer for the Administration for Children and Families.

Dated: November 20, 2007.
Robert Sargis,
Reports Clearance Officer.

[FR Doc. 07-5835 Filed 11-26-07; 8:45 am]

BILLING CODE 4184-01-M